DEPARTMENT OF DEFENSE

Office of the Secretary

Local Redevelopment Authority for the Pueblo Chemical Depot

AGENCY: Office of Local Defense Community Cooperation, Department of Defense (DoD).

ACTION: Base Closure and Realignment.

SUMMARY: This notice provides the point of contact, address, and telephone number for the Local Redevelopment Authority (LRA) for the Pueblo Chemical Depot, formerly known as the Pueblo Depot Activity, in Pueblo, Colorado to be closed, managed, and disposed of by the Army pursuant to the National Defense Authorization Act (NDAA) for Fiscal Year 2024 and in accordance with procedures and authorities of the Defense Base Closure and Realignment Act of 1990. The Pueblo Depot Activity Development Authority, dba PuebloPlex, was recognized as the LRA by the Secretary of Defense, acting through the DoD, Office of Local Defense Community Cooperation (OLDCC) on July 25, 2024. Representatives of state and local governments, and other parties interested in the redevelopment of the installation should contact this LRA.

FOR FURTHER INFORMATION CONTACT: The following point of contact information will also be published simultaneously in a newspaper of general circulation in the area of the installation. Mr. Patrick J. O'Brien, Director, Office of Local Defense Community Cooperation, Office of the Secretary of Defense, 2231 Crystal Drive, Suite 520, Arlington VA 22202-4704, (703) 697-2123.

SUPPLEMENTARY INFORMATION: This notice is provided pursuant to section 2905(b)(7)(B)(ii) of the Defense Base Closure and Realignment Act of 1990. Authority for PuebloPlex was enacted by the State of Colorado through the Pueblo Depot Activity Development Authority Act. This law established a broad-based governing public board representing the local governments concerned with authority to apply for and receive state and Federal grant funds; to contract, finance, acquire and hold, by lease or deed, all properties of the Pueblo Chemical Depot, formerly known as the Pueblo Depot Activity, made available pursuant to section 2854 of the NDAA FY24 in accordance with procedures and authorities of the Defense Base Closure and Realignment Act of 1990, a base closure law as defined by section 10 of title 10, United States Code.

Local Redevelopment Authority (LRA)

Colorado

Installation: Pueblo Chemical Depot.

LRA Name: Pueblo Depot Activity Development Authority dba PuebloPlex.

Point of Contact: Breann Magnone, Public Engagement Coordinator.

Address: 45825 CO-HWY 96 E, Building 46, Pueblo, CO 81006.

Phone: (719) 947-3770.

Email address: HQ@PuebloPlex.com.

Dated: October 2, 2024.
Aaron T. Siegel,
Alternate OSD Federal Register Liaison Officer, Department of Defense.

[FR Doc. 2024-23194 Filed 10-7-24; 8:45 am]

BILLING CODE 6001-FR-P